DEPARTMENT OF AGRICULTURE

Animal and Plant Health Inspection Service

[Docket No. APHIS-2020-0033]

Determination of the Newcastle Disease Status of the Cantons of Neuchâtel and Ticino of Switzerland

AGENCY: Animal and Plant Health Inspection Service, USDA.

ACTION: Notice.

SUMMARY: We are advising the public that we are reinstating the animal health status of the Cantons of Neuchâtel and Ticino in Switzerland as free of Newcastle disease. This recognition is based on an assessment we prepared and made available for public review and comment.

DATES: This change of disease status will be recognized on January 20, 2022.

FOR FURTHER INFORMATION CONACT: Dr. Rebecca Gordon, Import Risk Analyst, Regionalization Evaluation Services, Strategy & Policy, Veterinary Services, APHIS, USDA, 920 Main Campus Drive, Suite 200, Raleigh, NC 27606; AskRegionalization@usda.gov; (919) 855-7741.

SUPPLEMENTARY INFORMATION: The regulations in 9 CFR part 94 govern the importation of animal products into the United States in order to ensure that the products do not introduce or spread diseases or pests of livestock, including Newcastle disease (ND). Section 94.6 contains requirements governing the importation of carcasses, meat, parts or products of carcasses, and eggs (other than hatching eggs) of poultry, game birds, or other birds from regions in which ND is considered to exist. The section provides that the Animal and Plant Health Inspection Service (APHIS) will maintain a list on the internet of regions in which ND is not known to exist. It further provides that, should a region be removed from the list due to an outbreak, APHIS will reinstate the region to the list in accordance with the procedures in 9 CFR 92.4.

Section 92.4 provides that after removing disease-free status from all or part of a region, APHIS may reassess the disease situation in that region to determine whether it is necessary to continue import prohibitions or restrictions. When reassessing the region's disease status, APHIS considers the standards of the World Organization for Animal Health (OIE) ¹ for reinstatement of disease-free status, as well as all relevant information obtained through publicly available means or collected by or submitted to APHIS through other means. Prior to removing import prohibitions or restrictions, APHIS makes the information regarding its assessment of the region's disease status available to the public for comment through a notice published in the Federal Register.

¹ The World Organization for Animal Health internationally follows a British English spelling of “organisation” in its name; also, it was formerly the Office International des Epizooties, or OIE, an acronym still in usage.

In accordance with the process for reinstatement, we published a notice ² in the Federal Register on October 26, 2020 (85 FR 67705, Docket No. APHIS-2020-0033) announcing the availability for review and comment of our evaluation of the ND status of the Cantons of Neuchâtel and Ticino. Based on this evaluation, APHIS concluded that Switzerland has effectively controlled and eradicated ND in its domestic poultry population in the Cantons of Neuchâtel and Ticino. APHIS also concluded that competent veterinary authorities of the Cantons have adequate disease control measures in place to rapidly identify, control, and eradicate the disease should it be reintroduced into Switzerland. Therefore, APHIS recommended that the Cantons Neuchâtel and Ticino should be reinstated onto the list of regions in which ND is not known to exist.

² To view the notice and assessment, go to www.regulations.gov and enter APHIS-2020-0033 in the Search field.

We solicited comments on the notice for 60 days ending December 28, 2020. We received no comments by that date.

We are therefore reinstating the animal health status of the Cantons of Neuchâtel and Ticino as free of ND.

Congressional Review Act

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 12th day of January 2022.
Jack Shere,
Acting Administrator, Animal and Plant Health Inspection Service.

[FR Doc. 2022-01010 Filed 1-19-22; 8:45 am]

BILLING CODE 3410-34-P